DEPARTMENT OF STATE

[Public Notice 5660]

Bureau of International Security and Nonproliferation; Imposition of Nonproliferation Measures Against Foreign Persons, Including a Ban on U.S. Government Procurement

AGENCY: Department of State.

ACTION: Notice.

SUMMARY: A determination has been made that twenty-four foreign persons have engaged in activities that warrant the imposition of measures pursuant to Section 3 of the Iran and Syria Nonproliferation Act, which provides for penalties on entities and individuals for the transfer to or acquisition from Iran since January 1, 1999 or the transfer to or acquisition from Syria since January 1, 2005, of equipment and technology controlled under multilateral export control lists (Missile Technology Control Regime, Australia Group, Chemical Weapons Convention, Nuclear Suppliers Group, Wassenaar Arrangement) or otherwise having the potential to make a material contribution to the development of weapons of mass destruction (WMD) or cruise or ballistic missile systems. The latter category includes (a) items of the same kind as those on multilateral lists, but falling below the control list parameters, when it is determined that such items have the potential of making a material contribution to WMD or cruise or ballistic missile systems, (b) other items with the potential of making such a material contribution, when added through case-by-case decisions, and (c) items on U.S. national control lists for WMD/missile reasons that are not on multilateral lists.

DATES: Effective Date: December 28, 2006.

FOR FURTHER INFORMATION CONTACT: On general issues: Pamela K. Durham, Office of Missile Threat Reduction, Bureau of International Security and Nonproliferation, Department of State (202-647-4931). On U.S. Government procurement ban issues: Gladys Gines, Office of the Procurement Executive, Department of State (703-516-1691).

SUPPLEMENTARY INFORMATION: Pursuant to Sections 2 and 3 of the Iran and Syria Nonproliferation Act (Pub. L. 109-112), the U.S. Government determined on December 22, 2006 that the measures authorized in Section 3 of the Act shall apply to the following foreign persons identified in the report submitted pursuant to Section 2(a) of the Act:

China National Electronic Import-Export Company (CEIEC) (China) and any successor, sub-unit, or subsidiary thereof;

China National Aero-Technology Import and Export Company (CATIC) (China) and any successor, sub-unit, or subsidiary thereof;

Zibo Chemet Equipment Company (China) and any successor, sub-unit, or subsidiary thereof;

Defense Industries Organization (DIO) (Iran) and any successor, sub-unit, or subsidiary thereof;

Iran Electronics Industries (IEI) (Iran) and any successor, sub-unit, or subsidiary thereof;

Sanam Industrial Group (SIG) (Iran) and any successor, sub-unit, or subsidiary thereof;

NAB Export Company (Iran) and any successor, sub-unit, or subsidiary thereof;

Abu Hamadi (Iraq) and any successor, sub-unit, or subsidiary thereof;

Kal Al-Zuhiry (Iraq);

Korea Mining Development Corporation (KOMID) (North Korea) and any successor, sub-unit, or subsidiary thereof;

Target Airfreight (Malaysia) and any successor, sub-unit, or subsidiary thereof;

Aerospace Logistics Services (Mexico) and any successor, sub-unit, or subsidiary thereof;

Arif Durrani (Pakistan);

Rosoboronexport (Russia) and any successor, sub-unit, or subsidiary thereof;

Kolomna Design Bureau of Machine-Building (KBM) (Russia) and any successor, sub-unit, or subsidiary thereof;

Tula Design Bureau of Instrument Building (KBP) (Russia) and any successor, sub-unit, or subsidiary thereof;

Alexey Safonov (Russia);

Al Zarga Optical and Electronics Co. (Sudan) and any successor, sub-unit, or subsidiary thereof;

Giad Industrial Complex (Sudan) and any successor, sub-unit, or subsidiary thereof;

Yarmouk Industrial Complex (Sudan) and any successor, sub-unit, or subsidiary thereof;

Army Supply Bureau (Syria) and any successor, sub-unit, or subsidiary thereof;

Industrial Establishment of Defense (IED) (Syria) and any successor, sub-unit, or subsidiary thereof;

Ministry of Defense (Syria) and any successor, sub-unit, or subsidiary thereof; and

Scientific Studies and Research Center (SSRC) (Syria) and any successor, sub-unit, or subsidiary thereof.

Accordingly, pursuant to the provisions of the Act, the following measures are imposed on these entities and individuals:

1. No department or agency of the United States Government may procure, or enter into any contract for the procurement of, any goods, technology, or services from these foreign persons;

2. No department or agency of the United States Government may provide any assistance to the foreign persons, and these persons shall not be eligible to participate in any assistance program of the United States Government;

3. No United States Government sales to the foreign persons of any item on the United States Munitions List (as in effect on August 8, 1995) are permitted, and all sales to these persons of any defense articles, defense services, or design and construction services under the Arms Export Control Act are terminated; and,

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State may subsequently determine otherwise. A new determination will be made in the event that circumstances change in such a manner as to warrant a change in the duration of sanctions.

Dated: December 28, 2006.
Andrew K. Semmel,
Acting Assistant Secretary of State for International Security and Nonproliferation, Department of State.

[FR Doc. E6-22630 Filed 1-4-07; 8:45 am]

BILLING CODE 4710-25-P